DEPARTMENT OF ENERGY

Federal Energy Regulatory Commission

[Docket No. EL17-95-000]

California Public Utilities Commission, Transmission Agency of Northern California, Sacramento Municipal Utility District, M-S-R Public Power Agency, City of Santa Clara, California, State Water Contractors, Modesto Irrigation District, Northern California Power Agency v. Pacific Gas and Electric Company; Notice of Complaint

Take notice that on September 29, 2017, the California Public Utilities Commission, Transmission Agency of Northern California, Sacramento Municipal Utility District, M-S-R Public Power Agency, City of Santa Clara, California, doing business as Silicon Valley Power, State Water Contractors, Modesto Irrigation District, and Northern California Power Agency (collectively, Complainants) filed a formal complaint against Pacific Gas and Electric Company (Respondent) pursuant to section 206 of the Federal Power Act, 16 U.S.C. 824(e), 825(e) (2012), and Rule 206 of the Rules of Practice and Procedure of the Federal Energy Regulatory Commission (Commission), 18 CFR 385.206 (2017), alleging that Respondent's proposed Transmission Owner (TO) rates substantially exceed its cost of service and may well exceed the revenue requirement comprising its last clean rate. Complainants request that the Commission order an investigation into Respondent's TO rates and exercise its authority to establish the earliest possible refund effective date, all as more fully explained in the complaint.

Complainants certify that copies of the complaint were served on the contact for PG&E.

Any person desiring to intervene or to protest this filing must file in accordance with Rules 211 and 214 of the Commission's Rules of Practice and Procedure. 18 CFR 385.211, 385.214 (2017). Protests will be considered by the Commission in determining the appropriate action to be taken, but will not serve to make protestants parties to the proceeding. Any person wishing to become a party must file a notice of intervention or motion to intervene, as appropriate. The Respondent's answer and all interventions, or protests, must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible online at http://www.ferc.gov, using the “eLibrary” link and is available for review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 19, 2017.

Dated: October 2, 2017.
Kimberly D. Bose,
Secretary.

[FR Doc. 2017-21725 Filed 10-6-17; 8:45 am]

BILLING CODE 6717-01-P